DEPARTMENT OF TRANSPORTATION

Federal Aviation Administration

14 CFR Part 71

[Docket No. FAA-2015-3674; Airspace Docket No. 15-ANM-18]

Proposed Amendment of Class E Airspace; Boise, ID

AGENCY: Federal Aviation Administration (FAA), DOT.

ACTION: Notice of proposed rulemaking (NPRM).

SUMMARY: This action proposes to modify Class E surface area airspace designated as an extension to Class C airspace, and Class E airspace extending upward from 700 feet above the surface at Boise Air Terminal/Gowen Field Airport, formerly Boise Air Terminal (Gowen Field), Boise, ID. After reviewing the airspace, the FAA found standard instrument approach procedures are not fully contained in controlled airspace, thereby necessitating airspace redesign for the safety and management of Instrument Flight Rules (IFR) operations at the airport. This proposal also would update the name of the airport to match the FAAs aeronautical database.

DATES: Comments must be received on or before December 28, 2015.

ADDRESSES: Send comments on this proposal to the U.S. Department of Transportation, Docket Operations, M-30, West Building Ground Floor, Room W12-140, 1200 New Jersey Avenue SE., Washington, DC 20590; telephone (202) 366-9826. You must identify FAA Docket No. FAA-2015-3674; Airspace Docket No. 15-ANM-18, at the beginning of your comments. You may also submit comments through the Internet at http://www.regulations.gov. You may review the public docket containing the proposal, any comments received, and any final disposition in person in the Dockets Office between 9:00 a.m. and 5:00 p.m., Monday through Friday, except Federal holidays. The Docket Office (telephone 1-800-647-5527), is on the ground floor of the building at the above address.

FAA Order 7400.9Z, Airspace Designations and Reporting Points, and subsequent amendments can be viewed online at http://www.faa.gov/air_traffic/publications/. For further information, you can contact the Airspace Policy and ATC Regulations Group, Federal Aviation Administration, 800 Independence Avenue SW., Washington, DC 29591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4500.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would amend Class E airspace at Boise Air Terminal/Gowen Field Airport, Boise, ID.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2015-3674; Airspace Docket No. 15-ANM-18.” The postcard will be date/time stamped and returned to the commenter.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 1601 Lind Avenue SW., Renton, WA 98057.

Persons interested in being placed on a mailing list for future NPRMs should contact the FAA's Office of Rulemaking, (202) 267-9677, for a copy of Advisory Circular No. 11-2A, Notice of Proposed Rulemaking Distribution System, which describes the application procedure.

Availability and Summary of Documents Proposed for Incorporation by Reference

This document proposes to amend FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Proposal

The FAA is proposing an amendment to Title 14 Code of Federal Regulations (14 CFR) Part 71 by modifying Class E airspace designated as an extension to Class C airspace at Boise Air Terminal/Gowen Field Airport, Boise, ID. Two segments would be expanded from the 5-mile radius of the airport and extend to 12.8 miles southeast, and 11 miles northwest of the airport. Class E airspace extending upward from 700 feet above the surface at Boise Air Terminal/Gowen Field Airport would be amended to accommodate standard instrument approach procedures for IFR operations at the airport. A review of the airspace found modification of the airspace necessary for the safety and management of standard instrument approach procedures for IFR operations at the airport. Also, the name of the airport would be updated from Boise Air Terminal (Gowen Field), to Boise Air Terminal/Gowen Field Airport, to coincide with the FAA's aeronautical database.

Class E airspace extending upward from 700 feet above the surface would be modified to within an 8.6-mile radius north of Boise Air Terminal/Gowen Field Airport, extending to 11.4 miles to the south, 17 miles to the east and 30 miles to the west.

Class E airspace designations are published in paragraph 6003 and 6005, respectively, of FAA Order 7400.9Z, dated August 6, 2015 and effective September 15, 2015, which is incorporated by reference in 14 CFR 71.1. The Class E airspace designations listed in this document will be published subsequently in the Order.

Regulatory Notices and Analyses

The FAA has determined that this proposed regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6003 Class E Airspace Areas Designated as an Extension.

* * * * *

ANM ID E3 Boise, ID [Modified]

Boise Air Terminal/Gowen Field Airport, ID

(Lat. 43°33′52″ N., long. 116°13′22″ W.)

That airspace extending upward from the surface within 5 miles each side of the Boise Air Terminal/Gowen Field Airport 114° bearing extending from the 5-mile radius of the airport to 12.8 miles southeast of the airport; and within 5 miles each side of the Boise Air Terminal/Gowen Field Airport 295° bearing extending from the 5-mile radius of the airport to 11 miles northwest of the airport.

Paragraph 6005 Class E Airspace Areas Extending Upward From 700 Feet or More Above the Surface of the Earth.

* * * * *

ANM ID E5 Boise, ID [Modified]

Boise Air Terminal/Gowen Field Airport, ID

(Lat. 43°33′52″ N., long. 116°13′22″ W.)

That airspace extending upward from 700 feet above the surface bounded by a line beginning at lat. 43°44′51″ N., long. 116°52′05″ W.; to lat. 43°52′31″ N., long. 116°38′57″ W.; to lat. 43°51′24″ N., long. 116°24′16″ W.; to lat. 43°31′33″ N., long. 115°50′14″ W.; to lat. 43°19′45″ N., long. 115°56′41″ W.; to lat. 43°25′11″ N., long. 116°32′39″ W.; to lat. 43°35′39″ N., long. 116°47′51″ W., thence to the point of beginning. That airspace extending upward from 1,200 feet above the surface within the 30.5-mile radius of the airport beginning at the 122° bearing of the airport, thence via a line to the intersection of the 34.8-mile radius of the airport and the 224° bearing of the airport, thence clockwise along the 34.8-mile radius of the airport to that airspace 7 miles each side of the 269° bearing of the airport extending from the 34.8-mile radius to 49.6 miles west of the airport, and within 7 miles northeast and 9.6 miles southwest of the 295° bearing of the airport extending from the 34.8-mile radius to 65.3 miles northwest of the airport, to lat. 44°00′27″ N., long. 117°10′58″ W., thence along the 042° bearing to V-253, thence south along V-253, thence along the 30.5-mile radius of the airport to the point of beginning. That airspace southeast of the airport extending upward from 9,000 feet MSL bounded on the north by V-444, on the east by V-293, on the south by V-330 and on the southwest by V-4. That airspace northeast of the airport extending upward from 11,500 feet MSL, bounded on the northeast by V-293, on the south by V-444, on the southwest by the 30.5-mile radius of the airport and on the west by V-253.

Issued in Seattle, Washington, on November 3, 2015.
Christopher Ramirez,
Manager, Operations Support Group, Western Service Center.

[FR Doc. 2015-28784 Filed 11-12-15; 8:45 am]

BILLING CODE 4910-13-P